DEPARTMENT OF HEALTH AND HUMAN SERVICES

Office of Inspector General

Program Exclusions: October 2001

AGENCY: Office of Inspector General, HHS.

ACTION: Notice of program exclusions.

During the month of October 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date | Subject city, state | Effective date
PROGRAM-RELATED CONVICTIONS
ALFARO, ODALYS | 04/18/2002
MIAMI, FL
ANDERSON, MAY BERTHA | 04/18/2002
ELLSWORTH, KS
ANDRADA, MARIA CARMELA | 04/18/2002
HAWTHORNE, CA
ASATRIAN, VARTOUHI | 04/18/2002
LAS VEGAS, NV
BAHARIAN, KHACHATUR | 04/18/2002
N HOLLYWOOD, CA
BELLINGHAM ELDER NETWORK, INC | 04/18/2002
BELLINGHAM, MA
BORIS, KAREN R | 04/18/2002
POTTSVILLE, PA
BRAUD, LYNETTE | 04/18/2002
NEW ORLEANS, LA
BROWN, LAVERNE MAYFIELD | 06/12/2001
HOUSTON, TX
CARMONA, ALICE YOLANDA | 04/18/2002
FORT PIERCE, FL
CARTER, GERALD WARREN | 04/18/2002
LAKEWOOD, WA
CHENTNIK, RICHARD M | 04/18/2002
TERRE HAUTE, IN
CHILDERS, ROGER L | 04/18/2002
URBANA, OH
CLARK, KENNETH H | 04/18/2002
LEWIS RUN, PA
DORRANCE, FRANKIE LYNN | 04/18/2002
IOWA CITY, IA
FECTEAU, LUCILLE | 04/18/2002
GREENSBORO BEND, VT
FREEMAN, WHITNEY BRODERICK | 04/18/2002
KANSAS CITY, MO
GALLANT, NORMAN J | 04/18/2002
AYER, MA
GARAFOLA, BARBARA | 04/18/2002
CORAL SPRINGS, FL
GARAY, MARIA LUISA | 04/18/2002
SAN DIEGO, CA
GITKIN, SAMUEL | 04/18/2002
FORT LEE, NJ
GODBOUT, JOYCE M | 04/18/2002
BELLINGHAM, MA
GREENBERG, SAMUEL E | 04/18/2002
METAIRIE, LA
GUAGLIARDO, FRANK WILLIAM | 04/18/2002
STATEN ISLAND, NY
HALMOR TRADING CORP | 04/18/2002
BROOKLYN, NY
HARRINGTON, RAQUEL | 04/18/2002
MARIANNA, FL
HASWELL, KARLA F | 04/18/2002
SHOALS, IN
HASWELL, EVERSLEY MCDONALD | 04/18/2002
MONTCLAIR, NJ
HEALTHTEK | 04/18/2002
VANCOUVER, WA
HOCKLESS, WAYNE JOSEPH | 04/18/2002
ALEXANDRIA, LA
HOWARD, KEITH W | 04/18/2002
PETERSBURG, VA
JAMES, LARRY THAXTER | 01/09/2002
CHESTERFIELD, MO
JAMORA, TIRSO DAVID JR | 04/18/2002
PLACENTIA, CA
JONES, GREGORY DAVID | 04/18/2002
EL RENO, OK
JONES, LORA LEE | 04/18/2002
MADILL, OK
KADEMYAN, AVETIS | 04/18/2002
LONG BEACH, CA
KAPUTIKYAN, LEVON | 04/18/2002
TAFT, CA
LAUKHUFF, RANDY LEWIS III | 04/18/2002
ALEXANDRIA, LA
MAGIET, HENRY | 04/18/2002
WHITE PLAINS, NY
MARGARIAN, ANAHIT | 04/18/2002
DUBLIN, CA
MCCREADY, ROBERT OLIVER | 04/18/2002
MORENO VALLEY, CA
MCLARNON, MICHAEL C | 04/18/2002
MIAMI, FL
MILAN, JOSE ANTONIO OLIVARI | 04/18/2002
YAUCO, PR
MORENO, MAURICIO JAVIER | 04/18/2002
SAN DIEGO, CA
MOSLEY, CHRISTINA | 04/18/2002
ALBANY, NY
NYQUIST, JULIE ANDREA | 04/18/2002
ST PAUL, MN
OLIVEIRA, ELIZABETH M | 04/18/2002
SLIDELL, LA
PEREZ, LINA | 04/18/2002
MARIANNA, FL
POWERS, GEORGE | 04/18/2002
WEST HILLS, CA
QUEENAN, WILLIAM D JR | 04/18/2002
HOUSTON, TX
RAMOS, BERNADITO CANEJA | 04/18/2002
LOS ANGELES, CA
RAZIQ, RAFIK R | 04/18/2002
NEWARK, NJ
RESARI, LOLITA QUINTAL | 04/18/2002
N HOLLYWOOD, CA
REYES, NESTOR C | 04/18/2002
INDIANAPOLIS, IN
RICHARDSON, LANNY CHARLES | 4/18/2002
COLUMBIA, TN
ROBISON, RICK SAMUEL | 4/18/2002
SANDY, UT
ROSENBERG, DAVID | 4/18/2002
ATLANTIC BEACH, NY
RUTHERFORD, RICHARD A | 4/18/2002
LAFOLLETTE, TN
SANTINI, FRANCISCO | 4/18/2002
MIAMI, FL
SCHNEIDER, JEROME | 4/18/2002
MIAMI LAKES, FL
SCHULTZ, ALAN EDWIN | 4/18/2002
AGOURA, CA
SCOTT, MINDY | 4/18/2002
DANBURY, CT
SEMERDJIAN, SARKIS | 4/18/2002
GLENDALE, CA
SHACKMAN, STEPHEN J | 4/18/2002
VICTORVILLE, CA
SIERRA, MYRNA LUZ VIGO | 4/18/2002
BELMONT, MAYAGUEZ, PR
SMITH, ANDREA LYNN | 4/18/2002
SHREVEPORT, LA
SWEARINGEN, DANIEL M | 4/18/2002
READ FEATHER LAKE, CO
TAHERI, SEYED ALI ASFGAR | 4/18/2002
CARLSBAD, CA
TAHERI, MAHSHID ALAMI-RAD | 4/18/2002
OCEANSIDE, CA
TATEVOSYAN, ARSEN | 4/18/2002
N LAS VEGAS, NV
TOROSYAN, JIRAIR | 4/18/2002
LOS ANGELES, CA
URIBE, JULIAN | 4/18/2002
MIAMI, FL
VALERO, DIEGO | 4/18/2002
HIALEAH, FL
VARIDIN, EFSTATHIOS MARK | 4/18/2002
SEMINOLE, FL
VEITH, DEBORAH | 4/18/2002
METAIRIE, LA
W D LEE CTR FOR LIFE MGMT, INC | 4/18/2002
DETROIT, MI
WAHBA, ATIF NAGUIB | 4/18/2002
SPENCERPORT, NY
WAISMAN, RAMI | 4/18/2002
BROOKLYN, NY
WILLIAMS-BATCHELDER, VERONICA | 4/18/2002
TACOMA, WA
YARBOROUGH, KIMBERLY DAWN SCAL | 4/18/2002
MANDEVILLE, LA
ZEVALLOS, CARLOS A | 4/18/2002
GRANADA HILLS, CA
FELONY CONVICTION FOR HEALTH CARE FRAUD
BARBER, LYNN M | 04/18/2002
MINERSVILLE, PA
BELTRAN, MARIA | 04/18/2002
HUNTINGTON STATION, NY
CARUSO, RONALD J | 04/18/2002
BEMUS POINT, NY
CUCCIA, RICHARD A | 04/18/2002
METAIRIE, LA
DINO, JERICO | 04/18/2002
TAFT, CA
EGAN, THOMAS M | 04/18/2002
BOSTON, MA
GREENFIELD, JEFFREY B | 04/18/2002
BERWICK, ME
KU, AUBREY | 04/18/2002
AYER, MA
LAUERSEN, NIELS | 04/18/2002
BROOKLYN, NY
MAIORANO, JOHN | 04/18/2002
ISLAND HEIGHTS, NJ
MARTINEZ, REBECCA | 04/18/2002
LOS ANGELES, CA
MCCOY, ROBIN DAWN | 04/18/2002
ABERDEEN, SD
NEEDLES, FRANCINE DIANE | 04/18/2002
CERRITOS, CA
ROQUE, ISMAEL | 04/18/2002
MIAMI, FL
ROZENBERG, ARKADY | 04/18/2002
LOS ANGELES, CA
RYAN, BRANDY L | 04/18/2002
PUEBLO, CO
SHARP, CYNTHIA MAE | 04/18/2002
CARSON, CA
FELONY CONTROL SUBSTANCE CONVICTION
CONNORS, CHARLES F | 04/18/2002
SCRANTON, PA
CURTIS, KESY JADE | 04/18/2002
GRAND JUNCTION, CO
DICKELMAN, JOHN | 04/18/2002
SAINT JOHN, IN
HANSEN, LORI E | 04/18/2002
OKLAHOMA CITY, OK
JOHNSON, KIMBERLI S | 04/18/2002
LOGAN, UT
KNIGHT, CECIL DEWAYNE | 04/18/2002
CLEVELAND, TN
LAWTON, TAMMY | 04/18/2002
PEARL, MS
MARKEY, MARY B | 04/18/2002
AMA, LA
MELLEN, JOY RAE | 04/18/2002
BOISE, ID
ORDOQUI, MODESTO VALENT | 04/18/2002
JACKSONVILLE, FL
QUATTRONE, JOSEPH D | 04/18/2002
RIDGWAY, PA
RATLIFF, JASON LYNN | 04/18/2002
FORTVILLE, IN
SHEFFIELD, GARY WAYNE | 04/18/2002
PINEVILLE, LA
WILKEY, CORD MAURICE | 04/18/2002
OKLAHOMA CITY, OK
YONGUE, NICOLE M | 04/18/2002
WARNER ROBINS, GA
PATIENT ABUSE/NEGLECT CONVICTIONS
BURGERS, SHARLEAN | 04/18/2002
SALT LAKE CITY, UT
CARLIN, BRANDY | 04/18/2002
W JORDAN, UT
CASTILLO-INZUNZA, MIGUEL RAMON | 04/18/2002
ESCONDIDO, CA
CUDNEY, TIMOTHY GLENN | 04/18/2002
OWOSSO, MI
DAVID, VICTOR MATTHEW | 04/18/2002
WALLA WALLA, WA
FINCH, TRAMISE JENISE | 04/18/2002
LONG BEACH, CA
HAMMONDS, CATHERINE | 04/18/2002
MODESTO, CA
HEFFERNON, WANDA JUNE | 04/18/2002
RICHMOND, CA
JEFFERSON, HALEY Y | 04/18/2002
HARTSVILLE, SC
KNIGHT, WENDELL COLE | 04/18/2002
MEMPHIS, TN
KUNTZ, FRANKLIN LEO | 04/18/2002
PORTLAND, OR
LEMON, ROCKY R | 04/18/2002
CRANE, TX
MCCRACKEN, SCOTT D | 04/18/2002
CHILLICOTHE, MO
NYAGAH, JOHN | 04/18/2002
NEW CASTLE, DE
PAIGE, ADRIENNE S | 04/18/2002
YOUNGSTOWN, OH
PAUL, PATRICIA PERRY | 04/18/2002
FALLON, NV
RICCI, DAJON J | 04/18/2002
ALBUQUERQUE, NM
ROWE, RUTH S | 04/18/2002
GLOUCESTER, MA
SANCHEZ, FRANCISCA | 04/18/2002
DENVER, CO
SMITH, MARY REGINA | 04/18/2002
BATESVILLE, MS
STANDRIDGE, VEDA | 04/18/2002
CHECOTAH, OK
TAVORMINA, STEVEN T | 04/18/2002
QUEENSBURY, NY
TOPPIN, BRENDA M WISE | 04/18/2002
MILLSBORO, DE
VAN OTTERLOO, KEVIN DUANE | 04/18/2002
ANAHEIM, CA
WHEELWRIGHT, DUSTIN B | 04/18/2002
PROVO, UT
CONVICTION FOR HEALTH CARE FRAUD
BLOUNT, DIANNE L | 04/18/2002
COLUMBIA, SC
SPAIN, ANTHONY B | 04/19/2002
PLAINFIELD, NJ
CONTROLLED SUBSTANCE CONVICTIONS
BRUNKO, KIMBERLY KAY | 04/18/2002 | BRANDON, IA
LICENSE REVOCATION/SUSPENSION/SURRENDERED
ANDRUS-HUNTZINGER, LADONNE | 04/18/2002
SINKING SPRING, PA
ANTON, REMA RAMZI | 04/18/2002
PHOENIX, MD
BAILEY, VIOLET L | 04/18/2002
PULLMAN, WA
BANASHLEY, WAYNELLE DUENAS | 04/18/2002
PHOENIX, AZ
BARBIN, PATRICK | 04/18/2002
MARKSVILLE, LA
BASTIANON, PAMALA ANN | 04/18/2002
APPLE VALLEY, CA
BEARD, BRANDON S | 04/18/2002
EUDORA, AR
BERGO, AMY EVELYN | 04/18/2002
PHOENIX, AZ
BERNSTINE, RUTHA | 04/18/2002
NATCHITOCHES, LA
BOURG, MELANIE | 04/18/2002
HOUMA, LA
BRANDT, LORI | 04/18/2002
TWIN FALLS, ID
BROWN, LATEASE LAURETTE | 04/18/2002
PHOENIX, AZ
BROWN, CHARLES S | 04/18/2002
TUCSON, AZ
BURKE, LEONARD P | 04/18/2002
ARVADA, CO
CARROLL, MARILYN M | 04/18/2002
BENTON, IL
CARSON, MELISSA J | 04/18/2002
ELGIN, IL
CATCHINGS, NONA MARLENE | 04/18/2002
PHOENIX, AZ
CHAVEZ, ANA M | 04/18/2002
CHICAGO, IL
CHENOWETH, PENNY L | 04/18/2002
MACOMB, IL
COLEMAN, PAULETTE C | 04/18/2002
CHICAGO, IL
COLLINS, LOIS A GREEN | 04/18/2002
WALLINS CREEK, KY
COOK, JULIA L | 04/18/2002
MURPHYSBORO, IL
COSS, DAVID A | 04/18/2002
PHOENIX, AZ
CRONBAUGH, CANDACE ROCHELLE | 04/18/2002
PEORIA, AZ
D'AMOUN, PAMELA I | 04/18/2002
DECATUR, GA
DIMALANTA, ANGELO S | 04/18/2002
CHICAGO, IL
ELLISON, RAEFORD | 04/18/2002
VENTNOR CITY, NJ
FRAZER, TAMMIE A | 04/18/2002
WESTERLY, RI
GARRETT, MARCIA MARIE | 04/18/2002
INDIANAPOLIS, IN
GAY, GREGG | 04/18/2002
SANDY, UT
GILPATRICK, KAREN S | 04/18/2002
ROCK FALLS, IL
GOLAS, THERESE P | 04/18/2002
TRUMBULL, CT
GRUBBS, DONNIE W | 04/18/2002
BUCKEYE, AZ
HALSTED, AMY C | 04/18/2002
CHICAGO, IL
HAMER, ROBERT LAWRENCE | 04/18/2002
OAKDALE, CA
HANSON, DARLENE DOLORES | 04/18/2002
THIEF RIVER FALLS, MN
HEMPLING, WILLIAM HERNICK | 04/18/2002
METAIRIE, LA
HENDRICKSON, KENT | 04/18/2002
BULLHEAD CITY, AZ
HILL, ANTOINETTE M | 04/18/2002
CHICAGO, IL
HOLM, JUDITH ANN | 04/18/2002
OAKDALE, MN
HOOVER, BELINDA D | 04/18/2002
CHICAGO, IL
HOUSE, NICOLE L | 04/18/2002
BENTON, IL
HOUSTON, NANCY J | 04/18/2002
CHARITON, IA
HUMMEL, KATHLEEN M | 04/18/2002
WAVERLY, IA
HUNTER, SUSAN D | 04/18/2002
NAPLES, IL
JACOBS, CHRISTINE | 04/18/2002
SHADOW HILLS, CA
JOHNSON, ROBERTA | 04/18/2002
E ST LOUIS, IL
JOHNSON MCGINNIS, DEBORAH ANN | 04/18/2002
TWIN FALLS, ID
JONES, RHONDA RENEE | 04/18/2002
WICHITA FALLS, TX
KELLY, TERRANCE E | 04/18/2002
GLENWOOD SPRINGS, CO
KOREM, RICHARD ALLEN | 04/18/2002
WESTVILLE, IN
LAYNE, SHANNON K | 04/18/2002
PELHAM, TN
LAZO, KEVIN | 04/18/2002
BATON ROUGE, LA
LI, CHEUK BOR | 04/18/2002
FREMONT, CA
LYERLA, DONALD RAY | 04/18/2002
PORTER, IN
LYMAN, RAYMOND R | 04/18/2002
DRAPER, UT
MALSBY, LOLA BARRAGAN | 04/18/2002
MORENO VALLEY, CA
MATERA, KANDY L | 04/18/2002
ELGIN, IL
MATHEWS, KURIEN S | 04/18/2002
CHICAGO, IL
MAUCK, SHARON | 04/18/2002
ODESSA, TX
MCCOY, AFRICA NICOLE | 04/18/2002
BUTLER, AL
MCDONALD, PEGGI B | 04/18/2002
DAYTONA BCH, FL
MCLAUGHLIN, ANDREW PAUL JR | 04/18/2002
PHOENIX, MD
MEARKLE, JANICE | 04/18/2002
SUMMITT, MS
MERRITT, AMBER A | 04/18/2002
ROCK ISLAND, IL
MONTOYA, ROBERT JOHN | 04/18/2002
TEHACHAPI, CA
MOORE, LAURIE LEE | 04/18/2002
OMAHA, NE
NAJJAR, SAMIR SHIBLY | 04/18/2002
YAZOO CITY, MS
NIKRAVESH, DAVID NEJAT | 04/18/2002
VAN NUYS, CA
ORTIZ, TINA MARIE | 04/18/2002
DALLAS, TX
PACROPIS, GARY WILLIAM | 04/18/2002
AMBLER, PA
PATTERSON, CHRISTINA A | 04/18/2002
PALESTINE, IL
PEARL, RICHARD E | 04/18/2002
BROOKLYN, NY
PEREZ, EDWIN | 04/18/2002
JOHNSTON CITY, IL
PIERCE, KENNETH ALAN JR | 04/18/2002
CARSON CITY, NV
PONCHO, PAUL L | 04/18/2002
PHOENIX, AZ
PRINCE, WAYNE LAGUORI | 04/18/2002
OAKLAND PARK, FL
PYLES, JOCELYN N | 04/18/2002
THE WOODLANDS, TX
RAI, PARMJIT KAUR | 04/18/2002
VALLEYVIEW, OH
SANGA, JODY T | 04/18/2002
EASTFORD, CT
SCHENTHAL, STEPHEN JOSEPH | 04/18/2002
DESTIN, FL
SCHLAU, GAIL | 04/18/2002
MARGATE, FL
SCOTTI, STEPHEN DOUGLAS | 04/18/2002
EDINA, MN
SHARPE, RICHARD J | 04/18/2002
WALPOLE, MA
SMALLEY, MARK RUSSELL | 04/18/2002
ODGEN, UT
SNYDER, STEVEN P | 04/18/2002
LOUISVILLE, KY
STEEN, PATRICIA A | 04/18/2002
WYANTSKILL, NY
STOREY, GEORGE | 04/18/2002
WICHITA FALLS, TX
TAYLOR, BARBARA J | 04/18/2002
ARVADA, CO
TESTERMAN, JEANNE TOWERY | 04/18/2002
NEWTON, NC
TROESTER, DENNIS | 04/18/2002
BAY CITY, MI
VOIGT, DIONE WAYNE | 04/18/2002
TUCSON, AZ
WEERASINGHE, SHERRY LYNN | 04/18/2002
EDMOND, OK
WEITZMAN, DAVID DOAH | 04/18/2002
ROCHESTER, IN
WELLS, ROBERT NELSON | 04/18/2002
FRESNO, CA
WEST, TRINA SUE | 04/18/2002
ARDMORE, OK
WILLIAMS, MICHAEL T | 04/18/2002
TAMPA, FL
WINKLHOFER, BONNIE JO | 04/18/2002
SAN BERNARDINO, CA
WINNETT, JAMIE SUE | 04/18/2002
SULPHUR SPRINGS, TX
FRAUD/KICKBACKS
GONZALEZ-SANCHEZ, EDULFO | 08/09/2000
SAN ANTONIO, TX
RODRIGUEZ, ROLANDO X | 08/16/2000
SAN ANTONIO, TX
OWNED/CONTROLLED BY CONVICTED ENTITIES
ALLIED MEDICAL CLINIC | 04/18/2002
HOMESTEAD, FL
AUREX, INC | 04/18/2002
JACKSONVILLE, FL
BODY SCAN TESTING CENTER | 04/18/2002
ST GEORGE, UT
BOOKER CHIROPRACTIC | 04/18/2002
BOOKER, TX
COAST MEDICAL SUPPLY | 04/18/2002
LOS ANGELES, CA
HIGHLAND DRUG CO | 04/18/2002
JACKSONVILLE, FL
HIGHLAND PARK MEDICAL SUPPLY | 04/18/2002
LOS ANGELES, CA
PACOIMA MEDICAL SUPPLY | 04/18/2002
PACOIMA, CA
SYNCHRONIZED MONTROSE CHIRO | 04/18/2002
HOUSTON, TX
DEFAULT ON HEAL LOAN
BARNES, STANLEY GEORGE | 04/18/2002
BULLHEAD CITY, AZ
BLAND, HENRY NELSON JR | 04/18/2002
MIAMI, FL
BLOOMER, ANDERSAN M | 03/19/2002
BALTIMORE, MD
CAPEHART, TIMOTHY S | 04/18/2002
LA RUSSELL, MO
COOK, ROBERT DENNIS | 03/19/2002
TENNILLE, GA
DIPIETRO, MICHAEL V | 04/18/2002
SEAFORD, NY
DUPUIS, KENNETH J | 04/18/2002
ORONO, ME
DURANT, BILL | 04/18/2002
ENCINO, CA
FERNANDEZ-LORIO, ANA-MARIA | 04/18/2002
COLUMBIA, MO
GHALBI, ABDOLLNASER | 04/18/2002
ANAHEIM, CA
GORBAHN, MARK KENNETH | 04/18/2002
ATASCADERO, CA
HOBSON, DONALD A | 04/18/2002
INGLEWOOD, CA
HOPENSTAND, BOAZ JACOB | 04/18/2002
BEVERLY HILLS, CA
HOULE, CHERYL T | 04/18/2002
WINDHAM, ME
IBRAHIM, NAHLA | 04/18/2002
ALHAMBRA, CA
JACKSON, ROBYN ANNE | 04/18/2002
CALUMET CITY, IL
JANKORD, DEAN F | 01/16/2002
BURNSVILLE, MN
JUSTICE, GLENN RAY | 04/18/2002
LAS VEGAS, NV
LANDOU, LISSA S | 04/18/2002
ELM WOOD PARK, NJ
LASTER, STEVEN SCOTT | 04/18/2002
INOLA, OK
LEIBLIE-BRITTAIN, TONYA BETH | 04/18/2002
INDEPENDENCE, MO
LOGUE, JENNI LYNFRED | 04/18/2002
LOS ANGELES, CA
LOWMAN, JOHN R | 04/18/2002
PHOENIX, AZ
MINK, PAUL A | 04/18/2002
LANSING, MI
MOTLEY, REBECCA K | 04/18/2002
LATHRUP VILLAGE, MI
RODRIGUEZ, FRANKIE | 04/18/2002
KISSIMMEE, FL
SHAW, MICHAEL W | 04/18/2002
CHICAGO, IL
STARACE, WILLIAM J | 04/18/2002
STOCKTON, CA
THOMAS, JAMES C | 04/18/2002
WAUWATOSA, WI
TYSON, RICKY D | 04/18/2002
OKLAHOMA CITY, OK
VAN WINKLE, DAVID WAYNE | 04/18/2002
MENA, AR
WALDMAN, MARC M | 04/18/2002
MERRICK, NY
WASHINGTON, DIANE L | 04/18/2002
S HOLLAND, IL
WINTERS, MARK I | 04/18/2002
CLEVELAND, OH
WISE, HARRY MICHAEL | 04/18/2002
LITTLETON, CO
YANG, JINGMIAO | 04/18/2002
WYNNE WOOD, PA
OWNERS OF EXCLUDED ENTITIES
PARKER, ROBERTA | 04/18/2002
MINNEAPOLIS, MN

Dated: April 3, 2002.
Calvin Anderson, Jr.,
Director, Health Care Administrative Sanctions, Office of Inspector General.

[FR Doc. 02-9486 Filed 4-17-02; 8:45 am]

BILLING CODE 4150-04-P